OFFICE OF THE UNITED STATES TRADE REPRESENTATIVE

Revision of Mexico's Government Entities and Enterprises Covered by the Government Procurement Chapter of the North American Free Trade Agreement

AGENCY: Office of the United States Trade Representative.

ACTION: Revision of Mexico's government entities and enterprises covered in the government procurement chapter of the North American Free Trade Agreement.

SUMMARY: Under the North American Free Trade Agreement (NAFTA), coverage of the government procurement chapter is based on positive lists of government entities and enterprises for each NAFTA Party (United States, Canada and Mexico). The lists for each Party are contained in its Schedules to Annex 1001.1a-1 (Federal Government Entities) and Annex 1001.1a-2 (Government Enterprises) of the NAFTA Chapter on Government Procurement. The Chapter provides a process for rectifications and modifications of the Schedules. In 2004, Mexico modified its Schedules to reflect changes in its government structure. The Parties have approved the changes to Mexico's federal government entities and government enterprises schedules. Mexico published its revised Schedules in the Diario Oficial de la Federación de México in February 2005. The revised Mexican Schedules are set out below.

FOR FURTHER INFORMATION CONTACT: For further information please contact Dawn Shackleford, Office of the United States Trade Representative, (202) 395-9461 or Dawn_Shackleford@ustr.eop.gov, or David Weems, Department of Commerce, (202) 482-5415 or David_Weems@ita.doc.gov.

SUPPLEMENTARY INFORMATION: The legal text of the NAFTA, including the Chapter on Government Procurement and related Annexes can be found on the NAFTA Secretariat Web site at http://www.nafta-sec-alena.org. Mexico's revised Schedules are included on that site.

Mexico's Revised Schedule of Federal Government Entities in Annex 1001.1a-1

1. Secretaría de Gobernación

• Secretaría General del Consejo Nacional de Población

• Archivo General de la Nación

• Instituto Nacional de Estudios Históricos de la Revolución Mexicana

• Centro Nacional de Prevención de Desastres

• Instituto Nacional para el Federalismo y el Desarrollo Municipal

• Secretaría Técnica de la Comisión Calificadora de Publicaciones y Revistas Ilustradas

• Centro de Producción de Programas Informativos y Especiales

• Coordinación General de la Comisión Mexicana de Ayuda a Refugiados

• Instituto Nacional de Migración

• Secretaría Técnica de la Comisión para Asuntos de la Frontera Norte

2. Secretaría de Relaciones Exteriores

• Sección Mexicana de la Comisión Internacional de Límites y Aguas México-EE.UU.

• Sección Mexicana de la Comisión Internacional de Límites y Aguas México—Guatemala—Belice

• Instituto de México

3. Secretaría de Hacienda y Crédito Público

• Comisión Nacional Bancaria y de Valores

• Comisión Nacional de Seguros y Fianzas

• Instituto Nacional de Estadística, Geografía e Informática

• Servicio de Administración Tributaria

• Fideicomiso Programa de Mejoramiento de los Medios de Informáica y de Control de las Autoridades Aduaneras (FIDEMICA)

• Servicio de Administración de Bienes Asegurados

• Comisión Nacional del Sistema de Ahorro para el Retiro

4. Secretaría de Agricultura, Ganadería, Desarrollo Rural, Pesca y Alimentación

• Instituto Mexicano de Tecnología del Agua

• Instituto Nacional de Investigaciones Forestales, Agrícolas y Pecuarias

• Apoyos y Servicios a la Comercialización Agropecuaria (ASERCA)

• Comisión Nacional de Acuacultura y Pesca

• Servicio Nacional de Sanidad, Inocuidad y Calidad Agroalimentaria

• Servicio de Información y Estadística Agroalimentaria y Pesquera

• Servicio Nacional de Inspección y Certificación de Semillas

• Instituto Nacional de Pesca

5. Secretaría de Comunicaciones y Transportes

• Comisión Federal de Telecomunicaciones

• Instituto Mexicano de Transporte

6. Secretaría de Economía

• Comisión Federal de Mejora Regulatoria

• Comisión Federal de Competencia

7. Secretaría de Educación Pública

• Instituto Nacional de Antropología e Historia

• Instituto Nacional de Bellas Artes y Literatura

• Radio Educación

• Centro de Ingeniería y Desarrollo Industrial

• Consejo Nacional para la Cultura y las Artes

• Comisión Nacional del Deporte

• Instituto Nacional de Derechos de Autor

8. Secretaría de Salud

• Administración del Patrimonio de la Beneficencia Pública

• Centro Nacional de la Transfusión Sanguínea

• Laboratorio de Biológicos y Reactivos de México

• Centro Nacional de Rehabilitación

• Centro Nacional para la Prevención y Control del VIH/SIDA

• Centro Nacional de Vigilancia Epidemiológica

• Centro Nacional para la Salud de la Infancia y Adolescencia

• Comisión Federal para la Protección contra Riesgos Sanitarios

• Servicios de Salud Mental

• Comisión Nacional de Arbitraje Médico

• Centro Nacional de Transplantes

9. Secretaría del Trabajo y Previsiónn Social

• Procuraduría Federal de la Defensa del Trabajo

10. Secretaría de la Reforma Agraria

• Procuraduría Agraria

• Registro Agrario Nacional

11. Secretaría de Medio Ambiente y Recursos Naturales

12. Procuraduría General de la República

13. Secretaría de Energía

• Comisión Nacional de Seguridad Nuclear y Salvaguardias

• Comisión Nacional para el Ahorro de Energía

• Comisión Reguladora de Energía

14. Secretaría de Desarrollo Social

• Comisión Nacional de Fomento a la Vivienda

• Coordinación Nacional del Programa de Educación, Salud y Alimentación

15. Secretaría de Turismo

16. Secretaría de la Función Pública

17. Comisión Nacional de Zonas Áridas

18. Comisión Nacional de los Libros de Texto Gratuitos

19. Comisión Nacional de Derechos Humanos

20. Consejo Nacional de Fomento Educativo

21. Secretaría de la Defensa Nacional

22. Secretaría de Marina

23. Secretaría de Seguridad Pública

• Secretariado Ejecutivo del Sistema Nacional de Seguridad Pública

• Policía Federal Preventiva

• Prevención y Readaptación Social

• Consejo de Menores

Mexico's Revised Schedule of Government Enterprises in Annex 1001.1a-2

Imprenta y Editorial

1. Talleres Gráficos de México

Comunicaciones y Transportes

2. Aeropuertos y Servicios Auxiliares (ASA)

3. Caminos y Puentes Federales de Ingresos y Servicios Conexos (CAPUFE)

4. Servicio Postal Mexicano

5. Telecomunicaciones de México (TELECOM)

Industria

6. Petróleos Mexicanos (No incluye las compras de combustibles y gas)

—PEMEX Corporativo

—PEMEX Exploración y Producción

—PEMEX Refinación

—PEMEX Gas y Petroquímica Básica

—PEMEX Petroquímica

—Petroquímica Camargo

—Petroquímica Cangrejera

—Petroquímica Cosoleacaque

—Petroquímica Escolín

—Petroquímica Morelos

—Petroquímica Pajaritos

—Petroquímica Tula

7. Comisión Federal de Electricidad

8. Consejo de Recursos Minerales

Comercio

9. Distribuidora e Impulsora Comercial Conasupo (DICONSA)

10. Leche Industrializada Conasupo (LICONSA) (No incluye las compras de bienes agrícolas adquiridos para programas de apoyo a la agricultura o bienes para la alimentación humana).

11. Procuraduría Federal del Consumidor

12. Instituto de Seguridad y Servicios Sociales de los Trabajadores del Estado (ISSSTE)

13. Instituto Mexicano del Seguro Social (IMSS)

14. Sistema Nacional para el Desarrollo Integral de la Familia (DIF) (No incluye las compras de bienes agrícolas adquiridos para programas de apoyo a la agricultura o bienes para la alimentación humana).

Seguridad Social

15. Instituto de Seguridad Social para las Fuerzas Armadas Mexicanas

16. Instituto Nacional Indigenista (INI)

17. Instituto Nacional para la Educación de los Adultos

18. Centro de Integración Juvenil

19. Instituto Nacional de las Personas Adultas Mayores

Otros

20. Comité Administrador del Programa Federal de Construcción de Escuelas (CAPFCE)

21. Comisión Nacional del Agua

22. Comisión para la Regularización de la Tenencia de la Tierra

23. Consejo Nacional de Ciencia y Tecnología (CONACYT)

24. NOTIMEX

25. Instituto Mexicano de Cinematografía

26. Lotería Nacional para la Asistencia Pública

27. Pronósticos para la Asistencia Pública

28. Instituto Nacional de las Mujeres

29. Grupo Aeroportuario de la Ciudad de México

30. Aeropuerto Internacional de la Ciudad de México

31. Servicio Aeroportuario de la Ciudad de México

32. Instituto Mexicano de la Propiedad Industrial

33. Comisión Nacional Forestal

34. Instituto Mexicano de la Juventud

35. Ferrocarril del Istmo de Tehuantepec

36. Consejo de Promoción Turística de México

Matt Rohde,
Acting Assistant United States Trade Representative for WTO and Multilateral Affairs.

[FR Doc. 05-12983 Filed 6-30-05; 8:45 am]

BILLING CODE 3190-W5-P